DEPARTMENT OF STATE

[Public Notice 8379]

Privacy Act; System of Records: State-53, Office of Inspector General Investigation Management System

SUMMARY: Notice is hereby given that the Department of State proposes to amend an existing system of records, Office of Inspector General Investigation Management System, State-53, pursuant to the provisions of the Privacy Act of 1974, as amended (5 U.S.C. 552a) and Office of Management and Budget Circular No. A-130, Appendix I.

DATES: This system of records will be effective on August 26, 2013, unless we receive comments that will result in a contrary determination.

ADDRESSES: Any persons interested in commenting on the amended system of records may do so by writing to the Director; Office of Information Programs and Services, A/GIS/IPS; Department of State, SA-2; 515 22nd Street NW., Washington, DC 20522-8001.

FOR FURTHER INFORMATION CONTACT: Director; Office of Information Programs and Services, A/GIS/IPS; Department of State, SA-2; 515 22nd Street NW., Washington, DC 20522-8001.

SUPPLEMENTARY INFORMATION: The Department of State proposes that the current system amend its name from “Records of the Inspector General and Automated Individual Cross-Reference System” (previously published at 56 FR 7071) to “Office of Inspector General Investigation Management System.” The proposed system will include revisions or additions to the following sections: System location, Categories of individuals, Categories of records, Authority for maintenance of the system, Safeguards, Routine Uses, Purpose, Retrievability, and administrative updates.

The Department's report was filed with the Office of Management and Budget. The amended system description, “Office of Inspector General Investigation Management System, State-53” will read as set forth below.

Joyce A. Barr,
Assistant Secretary for Administration, U.S. Department of State.

STATE-53

SYSTEM NAME:

Office of Inspector General Investigation Management System.

SECURITY CLASSIFICATION:

Unclassified.

SYSTEM LOCATIONS:

Department of State, Office of Inspector General (OIG), Office of Investigations, SA-39, 1700 N. Moore St., Arlington, VA 22209 (Hard-copy of files); National Aeronautics and Space Administration Office of Inspector General, Washington, DC 20546-0001 (Electronic copy of files maintained for OIG).

CATEGORIES OF INDIVIDUALS COVERED BY THE SYSTEM:

In connection with its investigative duties, Office of Inspector General (OIG) maintains records on the following categories of individuals:

(a) Current or former Department of State, Broadcasting Board of Governors (BBG) or U.S. Section of the International Boundary and Water Commission (IBWC) employees;

(b) Individuals (or firms) doing business with the Department of State, Broadcasting Board of Governors (BBG) or U.S. Section of the International Boundary and Water Commission (IBWC), including contractors, grantees or others funded in some way by the Department, BBG or IBWC;

(c) Members of the Foreign Affairs community who come under the direction, coordination and/or supervision of U.S. Chiefs of Mission;

(d) Other individuals whose association with the Department of State, Broadcasting Board of Governors (BBG) or U.S. Section of the International Boundary and Water Commission (IBWC) relates to alleged violations of rules of conduct, the Civil Service merit system or any criminal or civil misconduct affecting the integrity or facilities of these agencies;

(e) Suspects, witnesses, principals, complainants, confidential or non-confidential informants; and

(f) All other individuals closely connected with a matter of investigative interest.

CATEGORIES OF RECORDS IN THE SYSTEM:

Records relating to investigations including reports, preliminary inquiries, complaints, alleged criminal, civil, or administrative misconduct. Categories of records include statements, affidavits, banking and other financial records, medical records, and personnel and other employment-related records obtained during the investigation. These records may contain names, dates of birth, passport numbers, Social Security numbers, account numbers and other personal identifiers.

AUTHORITY FOR MAINTENANCE OF THE SYSTEM:

The Inspector General Act of 1978, as amended (5 U.S.C. Appendix; see 5 U.S.C. Appendix § 4); Inspector General (22 U.S.C. 3929); Inspector General for the Department of State (22 U.S.C. 4861); Abolition and Transfer of Functions (22 U.S.C. 6533); and The Mexican Water Treaty, U.S.-Mex., Feb. 3, 1944, T.S. No. 994 (59 Stat. 1219).

PURPOSE(S):

Office of Inspector General (OIG) maintains this system of records to conduct investigations concerning the programs and operations of the Department of State, Broadcasting Board of Governors (BBG) and U.S. Section of the International Boundary and Water Commission (IBWC) to promote economy, efficiency and effectiveness in the administration of these programs and operations and to prevent and detect fraud, waste and abuse. The records in this system are used in investigating individuals and entities suspected of having committed illegal or unethical acts and/or assisting in related criminal and civil proceedings and administrative actions.

ROUTINE USES OF RECORDS MAINTAINED IN THIS SYSTEM, INCLUDING CATEGORIES OF USERS AND THE PURPOSES OF SUCH USES:

The records contained in Office of Inspector General (OIG) Investigation Management System are collected and maintained in the enforcement of Department of State, Broadcasting Board of Governors (BBG) and U.S. Section of the International Boundary and Water Commission (IBWC) regulations, Federal civil and criminal statutes, Executive Orders and the Code of Federal Regulations. These records may be disclosed as follows to:

(a) Congressional Committees, in furtherance of their respective oversight functions;

(b) Any Federal, state, local, tribal, territorial, foreign or international agency, or other public authority or professional organization that:

(1) Investigates, prosecutes or assists in the investigation or prosecution of an alleged violation; or enforces, implements or assists in enforcement or implementation of any applicable statute, rule, regulation or order;

(2) Maintains civil, criminal or other relevant enforcement records or other pertinent records, such as current professional licenses, in order to obtain information relevant to: an OIG investigation or other preliminary inquiry; a decision concerning the hiring or retention of an employee or other personnel action; the issuance of a security clearance; the establishment of a claim; or the initiation of an administrative, civil or criminal action; a contract award; issuance of a license, grant or other benefit; establishment of a claim; or initiation of an administrative, civil or criminal action;

(c) Consumer reporting agency in order to obtain information relevant to an OIG investigation or other preliminary inquiry;

(d) Any private or public source of information, witness or subject from which information is requested in the course of a legitimate OIG investigation or other preliminary inquiry to the extent necessary to:

(1) Identify an individual;

(2) Inform the source, witness or subject of the nature and purpose of the investigation or preliminary inquiry; or

(3) Identify the information requested;

(e) An attorney or other designated representative of any source of information, witness or subject in the course of a legitimate OIG investigation or other preliminary inquiry;

(f) The Department of Justice (DOJ) on behalf of:

(1) An employee of OIG in his or her individual capacity where DOJ has agreed to represent the employee, or

(2) The United States where OIG determines that litigation is likely to affect the Department of State, the BBG, IBWC or any related components, when any of the above is a party to litigation or has an interest in such litigation, and the use of such records by DOJ is deemed by OIG to be relevant and necessary to the litigation;

(g) A court, grand jury or an administrative or adjudicative body when OIG determines that use of such records is arguably relevant to the proceeding or when the adjudicator of an administrative or adjudicative body determines the records to be relevant to the proceeding;

(h) A member of Congress at the sole discretion of the Inspector General upon a determination of the propriety of such a disclosure and only for such purposes as authorized by the statutory mandate of the Inspector General;

(i) The Department of Justice (DOJ) for the purpose of obtaining its advice;

(j) The Office of Management and Budget (OMB) for the purpose of obtaining its advice;

(k) In response to a subpoena issued by an independent Federal agency having the power to subpoena records of Executive Federal agencies;

(l) A Federal agency responsible for considering suspension or debarment action where the record(s) would be relevant to such action;

(m) An entity or person, public or private, where disclosure of the record is needed to enable the recipient of the record to take action to recover money or property of the Department of State, BBG, and/or IBWC where such recovery will accrue to the benefit of the United States or where disclosure of the record is needed to enable the recipient of the record to take appropriate disciplinary action to maintain the integrity of programs or operations of the Department of State, BBG and/or IBWC;

(n) A Federal, state, local or foreign agency or other public authority to prevent and detect fraud or abuse in benefit programs administered by any agency pursuant to a formal memorandum of understanding (MOU) for use in computer matching programs; to support civil and criminal law enforcement activities of any agency and its components; or to collect debts and overpayments owed to any agency and its components;

(o) A public or professional licensing organization when such record indicates, either by itself or in combination with other information, a violation or potential violation of professional standards or reflects on the moral, educational or professional qualifications of an individual who is licensed or who is seeking to become licensed;

(p) Debt collection contractors for the purpose of collecting delinquent debts as authorized by law.

The Department of State periodically publishes in the Federal Register its standard routine uses which apply to all of its Privacy Act systems of records. These notices appear in the form of a Prefatory Statement. These standard routine uses apply to Office of Inspector General Investigation Management System, State-53.

POLICIES AND PRACTICES FOR STORING, RETRIEVING, ACCESSING, RETAINING, AND DISPOSING OF RECORDS IN THE SYSTEM:

STORAGE:

Hard-copy and electronic media.

RETRIEVABILITY:

Name, Social Security number or case number.

SAFEGUARDS:

All Office of Inspector General (OIG) employees, contractors and others authorized to access this system of records have completed thorough background investigations as required. Physical access to OIG where these records are physically maintained is controlled and admission is limited to those individuals possessing a valid, current identification access card or individuals entering with proper escort. All hard copies are maintained in secure file cabinets located in restricted areas, access to which is limited to authorized personnel only.

Access to electronic files is protected by: (1) Cryptographic protocols for communications over a network; (2) a unique user identification (ID) number; (3) a secure ID authentication token specific to each user and possessing its own encryption; and (4) the direct supervision of the system manager. The system manager has the capability of printing access audit trails for electronic media, thereby permitting regular scheduled and ad hoc monitoring of system access. Access privileges are consistent with the established need-to-know, separation-of-duties and supervisory requirements. Inspector General reports of investigation (ROIs) and investigative files and related records are disseminated only to those U.S. government officials and offices with a clear need-to-know concerning the matter being reported. No secondary distribution of ROIs, investigative files or related records is permitted without the express, written permission of the Inspector General. When it is determined that a user no longer needs access, their user account is disabled.

All users are given cyber security awareness training which covers the procedures for handling Sensitive but Unclassified information, including personally identifiable information (PII). Annual refresher training is mandatory. In addition, all Foreign Service and Civil Service employees and those Locally Engaged Staff who handle PII are required to take the Foreign Service Institute distance learning course, PA 459, instructing employees on privacy and security requirements, including the rules of behavior for handling PII and the potential consequences if it is handled improperly. Before being granted access to OIG Investigation Management System, a user must first be granted access to the Department of State computer system.

Remote access to the Department of State network from non-Department owned systems is authorized only to unclassified systems and only through a Department approved access program. Remote access to the network is configured with the Office of Management and Budget Memorandum M-07-16 security requirements which include but are not limited to two-factor authentication and time out function.

RETENTION AND DISPOSAL:

All system records are retired in accordance with published Department disposition schedules as approved by the National Archives and Records Administration (NARA). Investigative records that have been closed are retired to the Federal Records Center three years after their closure, maintained for an additional 10 years, and then destroyed. More specific information on Department of State records disposition schedules may be obtained by writing the Director; Office of Information Programs and Services, A/GIS/IPS; SA-2, Department of State; 515 22nd Street NW., Washington, DC 20522-8100.

SYSTEM MANAGER AND ADDRESS:

Special Agent in Charge of Operations or Designee; Inspector General; Office of Investigations; SA-39, 1700 North Moore Street, Suite 800; Arlington, Virginia 22209.

NOTIFICATION PROCEDURE:

Individuals who have cause to believe that this system might have records pertaining to them and have inquiries about those records should write to the System Manager at the address listed above. At a minimum, the individual must include his or her: name; date and place of birth; current mailing address and zip code; signature; and other information helpful in identifying the record.

RECORD ACCESS AND AMENDMENT PROCEDURES:

Individuals who wish to gain access to records pertaining to themselves should direct those requests, in writing, to the System Manager at the address listed above. The individual must specify the records being requested and must include, at a minimum, his or her name; date and place of birth; current mailing address and zip code; and signature, duly notarized or submitted under penalty of perjury (See 22 CFR part 171; 28 U.S.C. 1746). The request should be mailed in an envelope clearly marked “Privacy Act Request.” A determination as to exemption(s) shall be made at the time a request for access or amendment is received.

CONTESTING RECORD PROCEDURES:

Individuals who wish to contest information in the system pertaining to themselves should write to the System Manager at the address listed above. The request should clearly and concisely state what information is being contested, the reason for contesting it, and the proposed amendment to the information.

RECORD SOURCE CATEGORIES:

These records contain information obtained from interviews, reviews of records, authorized investigative techniques and other agencies' systems of records.

SYSTEM EXEMPTED FROM CERTAIN PROVISIONS OF THE ACT:

Pursuant to 5 U.S.C. 552a(j)(2), the records contained within this system of records are exempted from any part of the Privacy Act except subsections (b), (c)(1) and (2), (e)(4)(A) through (F), (e)(6), (7), (9), (10) and (11), and (i).

Pursuant to 5 U.S.C. 552a (k)(1), (k)(2) and (k)(5), the records in this system are exempted from the following provisions of the Privacy Act: subsections (c)(3), (d), (e)(1), (e)(4)(G), (H) and (I) and (f).

See rules published in the Federal Register, 22 CFR part 171.

[FR Doc. 2013-16891 Filed 7-12-13; 8:45 am]

BILLING CODE 4710-42-P